DEPARTMENT OF HEALTH AND HUMAN SERVICES

Office of Public Health and Science; Grant Award to Development Systems, Incorporated

AGENCY: Office of Adolescent Pregnancy Programs, Office of Population Affairs, OPHS, OS, HHS.

ACTION: Notice.

SUMMARY: This notice is to inform the public that the Office of Adolescent Pregnancy Programs (OAPP) is awarding $664,700 in FY 2000 to Development Systems, Incorporated (DSI) under Title XX of the Public Health Service Act (42 U.S.C. 300z, et seq.). DSI proposes to directly assist Title XX grantees in implementing an ongoing quality assurance program, as is required by section 2006(a)(10) of the Public Health Service Act (42 U.S.C. 3002-5(a)(10).

DSI has submitted an unsolicited application to support a three-year technical assistance project that will increase the capacity of Title XX grantees to effectively implement their demonstration projects by providing quality assurance within program activities. Many organizations that apply to OAPP for Adolescent Family Life (AFL) funding for either demonstration projects for care services or prevention services are often new, small, community-based, inexperienced organizations. Although they may be able to write an application, present acceptable data on the needs for services and present a sound methodology for achieving results, including an evaluation plan, most of them do not have staff in place to implement the proposed programs. Consequently technical assistance and training are essential to enable most AFL demonstration projects to get started and to make core services available within a reasonable time after such grant is received.

DSI is a unique organization in its proposed provision of technical assistance to AFL grantees. It is very familiar with the needs of grantees and is sensitive to the problems, difficulties and obstacles that grantees face in implementation of both care and prevention AFL projects. DSI has already established a needs assessment instrument specific to AFL programs, has established relationships with logistical sites for technical assistance and AFL specific facilitators, and has established rapport with not only grantees, but also with OAPP staff. For these reasons, after a review by an objective review panel of the unsolicited proposal submitted by DSI, this award is made on non-competitively.

The technical assistance activities proposed by DSI will include organizing, implementing, and facilitating two orientation meetings per year for all AFL grantees, which will provide the pertinent information and guidance they need to familiarize themselves with AFL legislation and policy. DSI proposes to assess the needs of all AFL grantees at the orientation meetings, subsequently develop technical assistance goals and objectives, and will then organize and implement 8-10 regional technical assistance meetings addressing the grantee identified needs.

FOR FURTHER INFORMATION CONTACT: Patrick J. Sheeran, Acting Director, Office of Adolescent Pregnancy Programs, Office of Population Affairs, 4350 East-West Highway, Suite 200, Bethesda, MD 20814 or call (301) 594-4004.

Dated: August 28, 2000.
Mireille B. Kanda,
Acting Director, Office of Population Affairs.

[FR Doc. 00-22704 Filed 9-05-00; 8:45 am]

BILLING CODE 4160-17-M